DEPARTMENT OF COMMERCE

Foreign-Trade Zones Board

(DOCKET 24-2005)

Foreign-Trade Zone 88, Great Falls, Montana, Application for Expansion

An application has been submitted to the Foreign-Trade Zones (FTZ) Board (the Board), by the Great Falls International Airport Authority, grantee of FTZ 88, requesting authority to expand its zone in Great Falls, Montana, within the Great Falls Customs port of entry. The application was submitted pursuant to the provisions of the Foreign-Trade Zones Act, as amended (19 U.S.C. 81a-81u), and the regulations of the Board (15 CFR Part 400). It was formally filed on May 19, 2005.

FTZ 88 was approved on November 2, 1983 (Board Order 225, 40 FR 51242, 11/10/1983), and currently consists of one site (156 acres) within the 2,045-acre Great Falls International Airport located at 2800 Terminal Drive in Great Falls.

The applicant is now requesting authority to expand the existing site to include an additional 1,823 acres within the Great Falls International Airport (total acreage - 1,979 acres). The airport site includes one existing building suitable for general warehouse/distribution activities, with additional space available for build-to-suit specifications. The site is owned by the Great Falls International Airport Authority and includes the jet fuel storage and distribution system. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building-Suite 4100W, 1099 14th Street, NW, Washington, DC 20005; or,

2. Submissions via the U.S. Postal Service: Foreign-Trade Zones Board, U.S. Department of Commerce, FCB-Suite 4100W, 1401 Constitution Avenue, NW, Washington, DC 20230.

The closing period for their receipt is July 25, 2005. Rebuttal comments in response to material submitted during the foregoing period may be submitted during the subsequent 15-day period (to August 9, 2005).

A copy of the application and accompanying exhibits will be available during this time for public inspection at the address Number 1 listed above, and at the Great Falls International Airport, Airport Administration, 2800 Terminal Drive, Great Falls, MT 59404.

Dated: May 19, 2005.
Dennis Puccinelli,
Executive Secretary.

[FR Doc. 05-10566 Filed 5-25-05; 8:45 am]

BILLING CODE: 3510-DS-S